DEPARTMENT OF COMMERCE

International Trade Administration

[A-570-075, C-570-076]

Certain Plastic Decorative Ribbon From the People's Republic of China: Postponement of Final Determination of Sales at Less Than Fair Value

AGENCY: Enforcement and Compliance, International Trade Administration, Department of Commerce.

SUMMARY: The Department of Commerce (Commerce) is postponing the deadline for issuing the final determination in the less than fair value (LTFV) investigation of certain plastic decorative ribbon from the People's Republic of China (China) until December 21, 2018, and is extending the provisional measures period from a four-month period to a period of not more than six months.

DATES: Applicable August 14, 2018.

FOR FURTHER INFORMATION CONTACT: Nancy Decker, Lauren Caserta, or Caitlin Monks, AD/CVD Operations, Office VII, Enforcement and Compliance, International Trade Administration, U.S. Department of Commerce, 1401 Constitution Avenue NW, Washington, DC 20230; telephone: (202) 482-0196, (202) 482-4737, or (202) 482-2670, respectively.

SUPPLEMENTARY INFORMATION:

Background

On January 23, 2018, Commerce initiated the LTFV investigation of imports of certain plastic decorative ribbon from China.¹ The period of investigation is April 1, 2017, through September 31, 2017. On August 8, 2018, Commerce published its Preliminary Determination in the LTFV investigation.²

¹ See Certain Plastic Decorative Ribbon from the People's Republic of China: Initiation of Less-Than-Fair-Value Investigation, 83 FR 3126 (January 23, 2018) (Initiation Notice).

² See Certain Plastic Decorative Ribbon From the People's Republic of China: Preliminary Determination of Sales at Less Than Fair Value, 83 FR 39058 (August 8, 2018) (Preliminary Determination).

Postponement of Final Determination

Section 735(a)(2) of the Tariff Act of 1930, as amended (the Act), and 19 CFR 351.210(b)(2) provide that a final determination may be postponed until not later than 135 days after the date of the publication of the preliminary determination if, in the event of an affirmative preliminary determination, a request for such postponement is made by the exporters or producers who account for a significant proportion of exports of the subject merchandise, or in the event of a negative preliminary determination, a request for such postponement is made by the petitioners. Further, 19 CFR 351.210(e)(2) requires that such postponement requests by exporters be accompanied by a request for extension of provisional measures from a four-month period to a period of not more than six months, in accordance with section 733(d) of the Act.

On July 19, 2018, Dongguan Mei Song Plastic Industry Co., Ltd. (Mei Song) and Ningbo Junlong Craft Gift Co., Ltd. (Junlong), two mandatory respondents that account for a “significant portion” of subject merchandise in the LTFV investigation, requested that Commerce fully extend the deadline for the final determination and extend the application of the provisional measures from a four-month period to a period of not more than six months.³

³ See Letter from Mei Song and Junlong, “Certain Plastic Decorative Ribbon from the People's Republic of China—Request for Extension of Final Determination,” dated July 19, 2018.

In accordance with section 735(a)(2)(A) of the Act and 19 CFR 351.210(b)(2)(ii), because: (1) The preliminary determination was affirmative; (2) the request was made by exporters who account for a significant proportion of exports of the subject merchandise from the country at issue; and (3) no compelling reasons for denial exist, Commerce is postponing the final determination of the investigation until no later than 135 days after the date of the publication of the relevant preliminary determination, and extending the provisional measures from a four-month period to a period of not more than six months. Accordingly, Commerce will issue its final determination in the LTFV investigation no later than December 21, 2018.⁴

⁴ The final determination of the accompanying countervailing duty (CVD) investigation has been previously aligned with the LTFV investigation. Thus, the deadline for issuing the final determination of the CVD investigation is also December 21, 2018. See Certain Plastic Decorative Ribbon From the People's Republic of China: Preliminary Affirmative Countervailing Duty Determination and Alignment of Final Determination With Final Antidumping Duty Determination, 83 FR 29096 (June 22, 2018).

This notice is issued and published pursuant to 19 CFR 351.210(g).

Dated: August 8, 2018.
James Maeder,
Associate Deputy Assistant Secretary for Antidumping and Countervailing Duty Operations performing the duties of Deputy Assistant Secretary for Antidumping and Countervailing Duty Operations.

[FR Doc. 2018-17413 Filed 8-13-18; 8:45 am]

BILLING CODE 3510-DS-P